DEPARTMENT OF COMMERCE

National Oceanic and Atmospheric Administration

RIN 0648-XF528

Endangered Species; File No. 21301

AGENCY: National Marine Fisheries Service (NMFS), National Oceanic and Atmospheric Administration (NOAA), Commerce.

ACTION: Notice; receipt of application.

SUMMARY: Notice is hereby given that Kara Dodge, Ph.D., Woods Hole Oceanographic Institution, MS #33, Redfield 256, Woods Hole, MA 02543, has applied in due form for a permit to take leatherback sea turtles (Dermochelys coriacea) for purposes of scientific research.

DATES: Written, telefaxed, or email comments must be received on or before September 28, 2017.

ADDRESSES: The application and related documents are available for review by selecting “Records Open for Public Comment” from the “Features” box on the Applications and Permits for Protected Species (APPS) home page, https://apps.nmfs.noaa.gov, and then selecting File No. 21301 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Erin Markin or Amy Hapeman, (301) 427-8401.

SUPPLEMENTARY INFORMATION: The subject permit is requested under the authority of the Endangered Species Act of 1973, as amended (ESA; 16 U.S.C. 1531 et seq.) and the regulations governing the taking, importing, and exporting of endangered and threatened species (50 CFR parts 222-226).

Kara Dodge, Ph.D., proposes continuation and expansion of long-term studies on leatherback sea turtles in the Atlantic Ocean, primarily off New England. The purpose of the work is to determine seasonal distribution, movements, behavior, foraging, genetics, health, physiology, and habitat of leatherback sea turtles. Up to 95 sea turtles annually would be approached from a research vessel, unmanned aircraft system, or captured by hoop net. Upon approach or capture, researchers would examine up to 30 sea turtles annually, collect morphometric data and biological samples, and attach, via suction-cup or direct attachment, up to three transmitters to each turtle before release. Up to 65 sea turtles annually would be approached and photographed or videoed only. Up to one unintentional mortality of a sea turtle could happen in any year over the life of the permit. The permit would be valid for up to ten years from the date of issuance.

Dated: August 24, 2017.
Julia Harrison,
Chief, Permits and Conservation Division, Office of Protected Resources, National Marine Fisheries Service.

[FR Doc. 2017-18255 Filed 8-28-17; 8:45 am]

BILLING CODE 3510-22-P